ENVIRONMENTAL PROTECTION AGENCY

40 CFR Part 272

[FRL-7091-9]

Utah: Final Authorization of State-Initiated Changes and Incorporation by Reference of Approved State Hazardous Waste Management Program

AGENCY: Environmental Protection Agency (EPA).

ACTION: Proposed rule.

SUMMARY: During a review of Utah's regulations, EPA identified a variety of State-initiated changes to Utah's hazardous waste program under the Resource Conservation and Recovery Act (RCRA). We propose to grant Final authorization to Utah for these changes. In addition, EPA is proposing to codify, in the section of the Code of Federal Regulation (CFR) entitled Approved State Hazardous Waste Management Programs, Utah's authorized hazardous waste program. We will incorporate by reference those provisions of the State regulations that are authorized and federally enforceable. In the “Rules and Regulations” section of this Federal Register, we are authorizing the changes to the Utah program and codifying and incorporating by reference the State's hazardous waste program as an Immediate Final Rule. We did not make a proposal prior to the Immediate Final Rule because we believe this action is noncontroversial and do not expect comments that oppose it. We have explained the reasons for this authorization and incorporation by reference in the preamble to the Immediate Final Rule. Unless we get written comments which oppose this authorization and incorporation by reference during the comment period, the Immediate Final Rule will become effective on the date established in the Final rule and we will not take further action on this proposal. If we get comments that oppose this action, we will withdraw the Immediate Final Rule and it will not take effect. We will then respond to public comments in a later Final rule based on this proposal. If you want to comment on this action, you must do so at this time, since you may not have another opportunity for comment.

DATES: Written comments must be received on or before December 26, 2001.

ADDRESSES: Mail written comments to Kris Shurr, 8P-HW, U.S. EPA, Region VIII, 999 18th St., Suite 300, Denver, Colorado 80202-2466, phone (303) 312-6139. You can examine copies of the materials used buy EPA to make this determination during normal business hours at the following locations: Utah Department of Environmental Quality, Division of Solid and Hazardous Waste, 288 North 1460 West, Salt Lake City, Utah 84114-4880, phone (801) 538-6776 and EPA Region VIII, 999 18th St., Suite 300, Denver, Colorado 80202-2466, phone (303) 312-6139.

FOR FURTHER INFORMATION CONTACT: Kris Shurr at EPA Region VIII, 999 18th St., Suite 300, Denver, Colorado 80202-2466, phone (303) 312-6139.

SUPPLEMENTARY INFORMATION: For additional information, please see the Immediate Final Rule published in the “Rules and Regulations” section of this Federal Register.

Dated: October 18, 2001.
Patricia D. Hull,
Acting Regional Administrator, Region VIII.

[FR Doc. 01-28851 Filed 11-23-01; 8:45 am]

BILLING CODE 6560-50-P